DEPARTMENT OF COMMERCE

National Oceanic and Atmospheric Administration

50 CFR Part 635

[I.D. 052405D]

Atlantic Highly Migratory Species; Atlantic Bluefin Tuna Fisheries

AGENCY: National Marine Fisheries Service (NMFS), National Oceanic and Atmospheric Administration (NOAA), Commerce.

ACTION: Temporary rule; inseason retention limit adjustment.

SUMMARY: NMFS has determined that the Atlantic bluefin tuna (BFT) General and Charter/Headboat Permit category daily retention limits should be adjusted for the 2005 fishing year, which begins on June 1, 2005 and ends May 31, 2006. The adjustment will allow maximum utilization of the General category June through August time-period subquota, and will enhance recreational BFT fishing opportunities aboard Charter/Headboat vessels in the early portion of the season. Therefore, NMFS increases the daily BFT retention limits to provide enhanced commercial General category and recreational Charter/Headboat fishing opportunities in all areas without risking overharvest of the General and Angling category quotas. The final initial 2005 BFT Specifications and General category effort controls are provided in a separate Federal Register document.

DATES: The effective dates for the BFT daily retention limits are provided in Table 1 under SUPPLEMENTARY INFORMATION.

FOR FURTHER INFORMATION CONTACT: Brad McHale, 978-281-9260.

SUPPLEMENTARY INFORMATION: Regulations implemented under the authority of the Atlantic Tunas Convention Act (16 U.S.C. 971 et seq.) and the Magnuson-Stevens Fishery Conservation and Management Act (Magnuson-Stevens Act; 16 U.S.C. 1801 et seq.) governing the harvest of BFT by persons and vessels subject to U.S. jurisdiction are found at 50 CFR part 635. Section 635.27 subdivides the U.S. BFT quota recommended by the International Commission for the Conservation of Atlantic Tunas (ICCAT) among the various domestic fishing categories.

Daily Retention Limits

Table 1.—Effective Dates
Permit category | Effective dates | Areas | BFT size class limit
General | June 1 through June 5, 2005, inclusive | All | One BFT per vessel per day/trip, measuring 73 inches (185 cm) curved fork length (CFL) or larger.
| June 6 through August 31, 2005, inclusive | All | Two BFT per vessel per day/trip, measuring 73 inches (185 cm) curved fork length (CFL) or larger.
| September 1, 2005, through January 31, 2006, inclusive | All | One BFT per vessel per day/trip, measuring 73 inches (185) CFL or larger.
Charter/Headboat | June 1-16, 2005, inclusive | All | One BFT per vessel per day/trip, measuring 27 to less than 73 inches (69 to less than 185 cm) CFL.
| June 17 through July 31, 2005, inclusive | All | Three BFT per vessel per day/trip, measuring 27 to less than 73 inches (69 to less than 185 cm) CFL. Of the three BFT, a maximum of two BFT are allowed per vessel per day/trip measuring 27 to less than 47 inches (69 to less that 119 cm) CFL.
| August 1, 2005, through May 31, 2006, inclusive | All | One BFT per vessel per day/trip, measuring 27 to less than 73 inches (69 to less than 185 cm) CFL.
Angling | June 1, 2005, through May 31, 2006, inclusive | All | One BFT per vessel per day/trip, measuring 27 to less than 73 inches (69 to less than 185 cm) CFL.

Adjustment of General Category Daily Retention Limits

Under 50 CFR 635.23(a)(4), NOAA Fisheries may increase or decrease the General category daily retention limit of large medium and giant BFT over a range from zero (on Restricted Fishing Days) to a maximum of three per vessel to allow for maximum utilization of the quota for BFT. Starting on June 1, 2005, the default commercial General category daily retention limit at 50 CFR 635.23(a)(2), will apply at one large medium or giant BFT (measuring 73 inches curved fork length (CFL)) or greater per vessel per day/trip. This retention limit applies to permitted HMS Charter/Headboat vessels (when commercially fishing under the General category) and General category permitted vessels.

NOAA Fisheries has been continuing to receive information from fishermen regarding the start of the season and requests for an increase of the retention limit in the General category starting as close as possible to the start of the fishery on June 1 and for increased recreational Charterboat limits mid June to end of July. Fishermen have indicated that, if the action is not conducted expeditiously, at the opening of the season, then a subsector of General category fishermen (particularly in northern New England) will lose the opportunity to enjoy the increased fishing opportunities while the fish are briefly offshore in the Gulf of Maine and northern New England fishing areas.

Therefore, NOAA Fisheries adjusts the General category daily retention limit June 6 through August 31, 2005, inclusive, to two large medium or giant BFT, measuring 73 inches (185 cm) CFL or greater, per vessel per day/trip. The default retention limit of one BFT greater than 73 inches will apply through June 5, 2005 inclusive, and the retention limit will revert back to the default on September 1, 2005. It is highly likely that with a combination of the default bag limit of one BFT starting on September 1, 2005, and the large amount of General category quota, that there will be sufficient quota for a full general category season extending into the winter months and for southern area fishermen on an order of magnitude of recent prior years.

Adjustment of HMS Charter/Headboat Permit Category Daily Retention Limits

Starting on June 1, 2005, the default recreational daily retention limit at 50 CFR 635.23(b), will apply at one school, large school or small medium BFT (measuring 27 inches to less than 73 inches curved fork length (CFL)) per vessel per day/trip. This retention limit applies to permitted HMS Charter/Headboat vessels (when recreationally fishing under the Angling category) and to HMS Angling permitted vessels. These regulations also allow for adjustment to the daily retention limit to provide for maximum utilization of the quota over the longest possible period of time. NOAA Fisheries may increase or decrease the retention limit for any size class BFT or change a vessel trip limit to an angler limit or vice versa. Such adjustments to the retention limits may be applied separately for persons aboard specific vessel types, such as private vessels, headboats, and charter boats.

NOAA Fisheries has recently received more information from charter operators and recreational industry leaders related to recreational BFT fishing opportunities in the mid-Atlantic area. Among other matters, NOAA Fisheries has learned about a tuna tournament starting on June 17, 2005, and concerns regarding how the default one BFT retention limit might negatively impact charterboat operations early in the season particularly in tournaments where higher limits will attract more participants. Charterboat operators have requested an increased retention limit, and expressed concern that a recreational retention limit of less than three or four BFT per vessel per day/trip does not provide reasonable fishing opportunities for charter/headboats, which carry multiple fee-paying passengers. Fishermen have also emphasized that an early season retention limit adjustment should be announced as soon as possible so that Charterboat operators have sufficient time to announce and plan the scheduling of trips. Another consideration is the need to ensure the United States meets ICCAT's recommendation regarding quota allocation and specifically regarding the catch of school BFT to no more than eight percent by weight of the total domestic landings quota over each four-consecutive-year period. The 2005 fishing year is the third year in the current accounting period. This multi-year block quota approach provides NOAA Fisheries with the flexibility to enhance fishing opportunities and to collect information on a broad range of BFT size classes.

Over the past several weeks HMS staff have received information related to retention limit adjustments for a variety of recreational fishing sectors along the entire Atlantic coast and for the duration of the 2005 fishing year. HMS staff have considered this information as well as issues raised at the HMS Advisory Panel meeting held in March 2005 and received from public comment on the proposed initial 2005 BFT specifications (70 FR 14630, March 23, 2005). The final initial specifications are currently in preparation and take into account recently available estimates of total recreational landings from the 2004 fishing year. These analyses show that a modest increase in the daily retention limit, of limited duration, is feasible without risking overharvest of available quota for the early part of the 2005 recreational season.

Thus, NOAA Fisheries adjusts the daily BFT retention limit, in all areas, for vessels permitted in the HMS Charter/Headboat category, effective June 17 through July 31, 2005, inclusive, to three BFT per vessel per day/trip, consisting of BFT measuring 27 to less than 73 inches (69 to less than 185 cm) CFL in the school, large school, or small medium size classes. Of the three BFT, a maximum of two school BFT are allowed per vessel per day/trip, measuring 27 to less than 47 inches (69 to less than 119 cm) CFL.

Effective August 1, 2005, the default daily recreational retention limit at 50 CFR 635.23(b) will apply in all areas, for all vessels fishing under the recreational angling quota and regulations. However, NOAA Fisheries is also aware of the needs of a late summer or September Charterboat fishery and will consider the possibility of again providing a modest retention limit adjustment closer to that time frame based on several factors, including but not limited to, the landings and quota data as well as other fishery information gathered from the monitoring programs discussed below, experience of this early season retention limit adjustment, information from fishermen and the public regarding fishing opportunities, and the availability of migrating BFT.

For privately owned and operated recreational vessels, permitted in the HMS Angling category, the daily recreational retention limit will remain at one school, large school, or small medium BFT measuring 27 to less than 73 inches (69 to less than 185 cm) CFL, per vessel per day/trip effective June 1, 2005 through May 31, 2006, inclusive.

Monitoring and Reporting

NMFS selected the daily recreational retention limits and their duration after examining previous fishing year catch and effort rates, receiving public comment, and analyzing the available quota for the 2005 fishing year. NMFS will continue to monitor the BFT fishery closely through dealer landing reports, the Automated Landings Reporting System, state harvest tagging programs in North Carolina and Maryland, and the Large Pelagics Survey. Depending on the level of fishing effort and catch rates of BFT, NMFS may determine that additional retention limit adjustments are necessary to ensure available quota is not exceeded or, to enhance scientific data collection from, and fishing opportunities in, all geographic areas. Additionally, NMFS may determine that an allocation from the school BFT reserve is warranted to further fishery management objectives.

Closures or subsequent adjustments to the daily retention limits, if any, will be published in the Federal Register. In addition, fishermen may call the Atlantic Tunas Information Line at (888) 872-8862 or (978) 281-9260 for updates on quota monitoring and retention limit adjustments. All BFT landed under the Angling category quota must be reported within 24 hours of landing to the NMFS Automated Landings Reporting System via toll-free phone at (888) 872-8862; or the Internet http://www.nmfspermits.com; or, if landed in the states of North Carolina or Maryland, to a reporting station prior to offloading. Information about these state harvest tagging programs, including reporting station locations, can be obtained in North Carolina by calling (800) 338-7804, and in Maryland by calling (410) 213-1531.

Classification

The Assistant Administrator for Fisheries, NOAA (AA), finds that it is impracticable and contrary to the public interest to provide prior notice of, and an opportunity for public comment on, this action. NOAA Fisheries published proposed initial 2005 BFT specifications (70 FR 14630) on March 23, 2005, and solicited public comment through 4/18/2005. NOAA Fisheries specifically requested comment on options to achieve the ICCAT recommended four-year average 8 percent tolerance on harvest of school BFT. Numerous comments were received on this issue as well as a wide range of topics, including inseason management measures for the General and Angling categories throughout the 2005 fishing year. NOAA Fisheries is in the process of publishing the final initial specifications.

Since the end of the comment period to the present day, the HMS Management Division has continued to receive more information refining its understanding of both the commercial and recreational sectors' specific needs regarding retention limits early in the season. HMS staff recent calculations from the specifications process show that there is sufficient quota for an increase in the General category retention limit from the start of the season. Prior experience from the past several years also leads us to predict that the General category season will start slowly and an adjustment of the retention limit will be necessary to maximize fishing opportunities on the June through August subquota and minimize excessive rollovers of quota into the October subquota category. The data also show that a limited increase in the angling retention limit is possible for the recreational Charterboat fleet while minimizing risks of exceeding the ICCAT allocated quota and the school limit recommendation.

Delays in increasing the retention limits would adversely affect those General and Charter/Headboat category vessels that would otherwise have an opportunity to harvest more than one BFT per day and would further exacerbate the problem of quota rollovers, or lack of booked charters. Limited opportunities to access the respective quotas may have negative social and economic impacts to U.S. fishermen that either depend upon catching the available quota within the time periods designated in the HMS FMP, or depend on multiple BFT retention limits to attract individuals to book charters. For both the General and the recreational sectors, an adjustment to the retention limits needs to be done as close to the start of the season on June 1 as possible for the impacted sectors to benefit from the adjustment and for fishermen who only have access to the fishery at the beginning of the season to not be precluded from early season fishing opportunities.

Therefore, the AA finds good cause under 5 U.S.C. 553(b)(B) to waive prior notice and the opportunity for public comment. For all of the above reasons, and because this action relieves a restriction (i.e., current, default retention limit is one fish per vessel/trip but this action relaxes that limit and allows retention of more fish), there is also good cause under 5 U.S.C. 553(d) to waive the 30-day delay in effectiveness.

This action is being taken under 50 CFR 635.23(a)(4) and is exempt from review under Executive Order 12866.

Authority: 16 U.S.C. 971 et seq. and 1801 et seq.

Dated: June 1, 2005.
Alan D. Risenhoover,
Acting Director, Office of Sustainable Fisheries, National Marine Fisheries Service.

[FR Doc. 05-11207 Filed 6-1-05; 5:02 pm]

BILLING CODE 3510-22-P